DEPARTMENT OF HEALTH AND HUMAN SERVICES

National Committee on Vital and Health Statistics: Teleconference

Pursuant to the Federal Advisory Committee Act, the Department of Health and Human Services (HHS) announces the following advisory committee meeting.

Name: National Committee on Vital and Health Statistics (NCVHS), Full Committee Meeting.

Dates and Times:

Tuesday, January 9, 2018: 9:00 a.m.-5:30 p.m. ET

Wednesday, January 10, 2018: 8:45 a.m.-3:00 p.m. ET

Place: U.S. Department of Health and Human Services, Hubert H. Humphrey Building, 200 Independence Avenue SW., Rm. 705A, Washington, DC 20201.

Status: Open.

Purpose: At the January 9-10, 2018 full meeting, the Committee will hear presentations, hold discussions on several health data policy topics and begin work on activities outlined in the NCVHS 2018 workplan. An environmental scan report will be reviewed and discussed by the full Committee as part of the Health Information Privacy and Security Beyond HIPAA project. This effort includes an exploration of challenges that extend beyond HIPAA and the range of policy options that may be available to the Department related to privacy, security and access measures to protect individually identifiable health information in an environment of electronic networking and multiple uses of data. The Population Health Subcommittee will focus on Next Generation Vital Statistics in follow up to the hearing held September 11-12, 2017 and subsequent analyses conducted following the hearing. The purpose of the hearing was to assess the current state of the national vital statistics system (NVSS) to address concerns regarding sustainability and viability of the system infrastructure. Also addressed was the system's capacity to provide timely, high quality, secure vital administrative and statistical data for identity establishment and protection, identification of trends in disease and epidemics, e.g., the recent surge in opioid-related deaths, and a host of critical uses for research, finance, planning, public records and services. The Committee will discuss concerns regarding decreased access to county and community-level data and potential plans to conduct work to address the issue. The Committee will also discuss the Predictability Roadmap as part of the Standards Subcommittee's project to identify possible approaches to improve the predictability and improvements in the adoption and processes related to updating standards and operating rules for electronic administrative transactions (e.g. claims, eligibility, electronic funds transfer); health terminology & vocabulary development, maintenance, and dissemination processes; and mapping out activities and timelines for the Committee's 2018 work.

The times and topics are subject to change. Please refer to the posted agenda for any updates.

Contact Person for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS Web site: http://www.ncvhs.hhs.gov/, where further information including an agenda and instructions to access the audio broadcast of the meetings will also be posted.

Should you require reasonable accommodation, please contact the CDC Office of Equal Employment Opportunity on (770) 488-3210 as soon as possible.

Dated: November 27, 2017.
Laina Bush,
Deputy Assistant Secretary for Planning and Evaluation, Office of the Assistant Secretary for Planning and Evaluation.

[FR Doc. 2017-25895 Filed 11-30-17; 8:45 am]

BILLING CODE 4151-05-P